DEPARTMENT OF HEALTH AND HUMAN SERVICES

National Institutes of Health

Fogarty International Center; Amended Notice of Meeting

Notice is hereby given of a change in the meeting of the Fogarty International Advisory Board, May 25, 20011, 2 p.m. to May 26, 2011, 3 p.m., National Institutes of Health, Lawton Chiles International House, Bethesda, MD 20892 which was published in the Federal Register on April 4, 2011, 76 FR 18567.

This notice is being amended to one day now being May 26, 2011 with a closed session from 8:30 a.m. until 9:30 a.m. and the open session for the remainder of the day. The meeting will be held at the Lawton Chiles International House. The meeting is partially closed to the public.

Dated: May 6, 2011.
Jennifer S. Spaeth,
Director, Office of Federal Advisory Committee Policy.

[FR Doc. 2011-11665 Filed 5-11-11; 8:45 am]

BILLING CODE 4140-01-P